OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 on August 4, 2000 (65 FR 48019). Individual authorities established or revoked under Schedules A and B and established under Schedule C between July 1, 2000, and July 31, 2000, appear in the listing below. Future notices will be published on the fourth Tuesday of each month, or as soon as possible thereafter. A consolidated listing of all authorities as of June 30 will also be published.

Schedule A

The following Schedule A authority was established for July 2000:

Court Services and Offender Supervision Agency of the District of Columbia: All positions, except for the Director, established to create the Court Services and Offender Supervision Agency of the District of Columbia. No new appointments may be made under this authority after September 30, 2001.

No Schedule A authorities were revoked July 2000.

Schedule B

No Schedule B authorities were established or revoked during July 2000.

Schedule C

The following Schedule C authorities were established during July 2000:

Commission on Civil Rights

Special Assistant to the Commissioner. Effective July 28, 2000.

Department of Agriculture

Staff Assistant to the Deputy Chief of Staff. Effective July 6, 2000.

Confidential Assistant to the Deputy Under Secretary, Rural Development. Effective July 12, 2000.

Confidential Assistant to the Assistant Secretary for Administration. Effective July 24, 2000.

Department of Commerce

Special Assistant to the Under Secretary for Technology. Effective July 24, 2000.

Senior Advisor to the Deputy Assistant Secretary for Technology and Aerospace Industries. Effective July 24, 2000.

Senior Advisor to the Senior Advisor to the Secretary, National Oceanic and Atmospheric Administration. Effective July 25, 2000.

Department of Defense

Special Assistant for Cleanup Policy to the Assistant Deputy Under Secretary of Defense for Environmental Cleanup. Effective July 12, 2000.

Personal and Confidential Assistant to the General Counsel. Effective July 27, 2000.

Department of Education

Special Assistant to the Chief of Staff. Effective July 12, 2000.

Confidential Assistant to the Director, Office of Educational Technology. Effective July 21, 2000.

Confidential Assistant to the Director of Scheduling and Briefing Staff. Effective July 24, 2000.

Department of Energy

Director of Special Projects to the Deputy Assistant Secretary, Office of Planning, Policy and Budget. Effective July 24, 2000.

Department of Housing and Urban Development

Special Counsel to the General Counsel. Effective July 31, 2000.

Department of Labor

Secretary's Representative to the Assistant Secretary, Office of Congressional and Intergovernmental Affairs. Effective July 7, 2000.

Chief of Staff to the Assistant Secretary for Employment and Training. Effective July 12, 2000.

Chief of Staff to the Assistant Secretary, Employment Standards Administration. Effective July 21, 2000.

Intergovernmental Officer to the Assistant Secretary for Congressional and Intergovernmental Affairs. Effective July 24, 2000.

Intergovernmental Officer to the Assistant Secretary, Office of Congressional and Intergovernmental Affairs. Effective July 26, 2000.

Special Assistant to the Chief of Staff. Effective July 31, 2000.

Department of Transportation

Special Assistant to the Deputy Administrator, Federal Aviation Administration. Effective July 13, 2000.

Senior Policy Advisor to the Secretary of Transportation. Effective July 28, 2000.

Department of the Treasury

Special Assistant to the Deputy Secretary of the Treasury. Effective July 11, 2000.

Senior Advisor to the Assistant Secretary (Economic Policy). Effective July 28, 2000.

National Endowment for the Humanities

Director, Office of Public Affairs to the Chief of Staff. Effective July 13, 2000.

Small Business Administration

Counselor to the Administrator. Effective July 11, 2000.

United States Tax Court

Secretary (Confidential Assistant) to the Judge. Effective July 5, 2000.

Authority: 5 U.S.C. 3301 and 3302; E.O. 10577, 3 CFR 1954-1958 Comp., P. 218.

Janice R. Lachance,
Director, Office of Personnel Management.

[FR Doc. 00-24130 Filed 9-19-00; 8:45 am]

BILLING CODE 6325-01-U